DEPARTMENT OF ENERGY

Federal Energy Regulatory Commission

[Docket No. EL19-27-000]

Notice of Complaint: Independent Market Monitor for PJM v. PJM Interconnection, LLC

Take notice that on December 28, 2018, pursuant to section 206 of the Federal Energy Regulatory Commission's (Commission) Rules of Practice and Procedure, 18 CFR 385.206 (2018), Independent Market Monitor for PJM (Complainant) filed a formal complaint against PJM Interconnection, L.L.C., (Respondent or PJM) requesting that the Commission direct PJM to find that their determination to not assess a Fuel Cost Policy penalty to a certain market seller constitutes a violation of the Fuel Cost Policy, all as more fully explained in the complaint.

The Complainant states that copies of the complaint were served on PJM representatives.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on January 25, 2019.

Dated: December 31, 2018.
Nathaniel J. Davis, Sr.,
Deputy Secretary.

[FR Doc. 2019-00027 Filed 1-9-19; 8:45 am]

BILLING CODE 6717-01-P